DEPARTMENT OF COMMERCE

National Oceanic and Atmospheric Administration

50 CFR Part 622

[Docket No. 231101-0256; RTID 0648-XD672]

Fisheries of the Caribbean, Gulf of Mexico, and South Atlantic; 2024 Recreational Closure for Golden Tilefish in the South Atlantic

AGENCY: National Marine Fisheries Service (NMFS), National Oceanic and Atmospheric Administration (NOAA), Commerce.

ACTION: Temporary rule; closure.

SUMMARY: NMFS announces the 2024 recreational fishing season for golden tilefish in the exclusive economic zone (EEZ) of the South Atlantic. Announcing the length of the recreational season is the accountability measure (AM) for the recreational sector. NMFS estimates that recreational landings of golden tilefish will reach the recreational annual catch limit (ACL) for the 2024 fishing year by February 29, 2024. Accordingly, NMFS announces the closure date for the recreational harvest of golden tilefish in the South Atlantic EEZ to protect the golden tilefish resource.

DATES: This temporary rule is effective from March 1, 2024, through December 31, 2024.

FOR FURTHER INFORMATION CONTACT: Karla Gore, NMFS Southeast Regional Office, telephone: 727-824-5305, email: karla.gore@noaa.gov.

SUPPLEMENTARY INFORMATION: The snapper-grouper fishery of the South Atlantic includes golden tilefish and is managed under the Fishery Management Plan for the Snapper-Grouper Fishery of the South Atlantic Region (FMP). The FMP was prepared by the South Atlantic Fishery Management Council and NMFS, and is implemented by NMFS under the authority of the Magnuson-Stevens Fishery Conservation and Management Act (Magnuson-Stevens Act) by regulations at 50 CFR part 622.

Regulations at 50 CFR 622.193(a)(2) specify the 2024 recreational ACL for golden tilefish of 2,635 fish, and the recreational AM. The recreational AM states that NMFS will project the length of the recreational fishing season for golden tilefish based on catch rates from the previous fishing year and announce the end date of the recreational season (50 CFR 622.193(a)(2)). The recreational season for golden tilefish started on January 1, 2024. Data from the NMFS Southeast Fisheries Science Center informed NMFS' projection that recreational landings will reach the recreational ACL for 2024 by the end of February. Therefore, NMFS announces that the end date of the recreational season for golden tilefish is February 29, 2024, and the recreational sector for golden tilefish in the South Atlantic EEZ will be closed from March 1 through December 31, 2024. During the recreational closure, the bag and possession limits for golden tilefish in or from the South Atlantic EEZ are zero. The next recreational fishing year and season for golden tilefish begins on January 1, 2025.

Classification

NMFS issues this action pursuant to section 305(d) of the Magnuson-Stevens Act. This action is required by 50 CFR 622.193(a)(2), which was issued pursuant to section 304(b) of the Magnuson-Stevens Act, and is exempt from review under Executive Order 12866.

Pursuant to 5 U.S.C. 553(b)(B), there is good cause to waive prior notice and an opportunity for public comment on this action, as notice and comment are unnecessary and contrary to the public interest. Such procedures are unnecessary because the rule that established the recreational ACL and AM for golden tilefish has already been subject to notice and comment, and all that remains is to notify the public of the end date of the recreational season. Such procedures are contrary to the public interest because of the need to immediately implement this action to protect the golden tilefish stock. The recreational ACL will soon be reached and prior notice and opportunity for public comment would require additional time, potentially resulting in a harvest well in excess of the established ACL.

For the reasons just stated, there is also good cause to waive the 30-day delay in the effectiveness of this action under 5 U.S.C. 553(d)(3).

Authority: 16 U.S.C. 1801 et seq.

Dated: February 22, 2024.
Everett Wayne Baxter,
Acting Director, Office of Sustainable Fisheries, National Marine Fisheries Service.

[FR Doc. 2024-03982 Filed 2-23-24; 8:45 am]

BILLING CODE 3510-22-P